DEPARTMENT OF HEALTH AND HUMAN SERVICES

Centers for Disease Control and Prevention

[30Day-23-1286]

Agency Forms Undergoing Paperwork Reduction Act Review

In accordance with the Paperwork Reduction Act of 1995, the Centers for Disease Control and Prevention (CDC) has submitted the information collection request titled “Reporting of the Rape Prevention and Education Program (RPE)” to the Office of Management and Budget (OMB) for review and approval. CDC previously published a “Proposed Data Collection Submitted for Public Comment and Recommendations” notice on March, 1 2022 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Annual Reporting of the Rape Prevention and Education (RPE) Program (OMB Control No. 0920-1286, Exp. 3/31/2023)—Revision—National Center for Injury Prevention and Control (NCIPC), Centers for Disease Control and Prevention (CDC)

Background and Brief Description

This is a Revision request for the currently approved “Annual Reporting of the Rape prevention and Education (RPE) Program” (OMB Control No. 0920-1286, Exp. 03/31/2023). This Revision is being requested to continue to collect information related to implementation and outcomes annually from 53 recipients or their designated delegates funded through the funding opportunity, CE19-1902. Sexual violence (SV) is a major public health problem: one in three women and one in four men experienced sexual violence involving physical contact during their lifetimes. Nearly one in five women and one in 38 men have experienced completed or attempted rape. Sexual violence starts early: one in three female and one in four male rape victims experienced it for the first time between 11-17 years old. CDC's Division of Violence Prevention (DVP) provides national leadership in prevention SV perpetration and victimization before it begins, (i.e., primary prevention). DVP administers the RPE Program, which provides funding to health departments in all 50 states, the District of Columbia (DC), Puerto Rico, Guam, the U.S. Virgin Islands, and the Commonwealth of Northern Mariana Islands.

The RPE Program is the principal federally funded program focused on SV primary prevention. Collecting information about the implementation and outcomes of CE19-1902 cooperative agreement through the online data system, DVP Partners Portal, is crucial to informing SV prevention nationally; enhancing accountability of the use of federal funds; providing timely program reports and responses to information requests, such as Congressional requests mandated by the authorizing legislation; improving real-time communications between CDC and RPE recipients; and strengthening CDC's capacity to provide responsive data-driven technical assistance and to monitor and evaluate recipients' progress and performance.

Information will be collected annually from recipients through the online data system, DVP Partners Portal. The DVP Partners Portal is organized by forms, which are further organized by sections and sub-sections. Recipients and program staff will be able to review information reported in previous years within the DVP Partners Portal per their authenticated access to the Portal. In addition, information from previous reports will be carried over and pre-populated for the next annual reporting as appropriate. Thus, with DVP Partners Portal most of the burden is required during the initial population of information (Year 1), Recipients will only need to enter changes, provide progress information, and add new information after Year 1.

CDC will use the information to be collected to do the following:

• Enhance accountability of the use of federal funds;

• Provide timely program reports and responses to information request;

• Improve real-time communications between CDC and recipients;

• Strengthen CDC's capacity to provide responsive and data-driven TA;

• Strengthen CDC's capacity to monitor and evaluate recipients' progress and performance towards activities required as part of the cooperative agreement;

• Allow both CDC and recipients to track their own state activities and outcomes, and ensure alignment between their state and local activities;

• Generate a variety of routine and customizable reports specifically for each recipient and in aggregate nationally for CDC stakeholders;

CDC requests approval for an estimated 424 annual burden hours. CDC is requesting a one-year approval. There is no cost to respondents other than their time to participate.

Estimated Annualized Burden Hours
Type of respondents | Form name | Number of respondents | Number of responses per respondent | Average burden per response (in hours)
RPE-funded Health Departments (State, DC, and Territories) and their Designated Delegates | Annual Reporting—Initial Population | 53 | 1 | 4
| Annual Reporting—Subsequent Reporting | 53 | 2 | 2

Jeffrey M. Zirger,
Lead, Information Collection Review Office, Office of Scientific Integrity, Office of Science, Centers for Disease Control and Prevention.

[FR Doc. 2022-23833 Filed 11-1-22; 8:45 am]

BILLING CODE 4163-18-P